FEDERAL DEPOSIT INSURANCE CORPORATION

Agency Information Collection Activities: Renewal of an Information Collection; Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following collections of information titled: (1) Application for Waiver of Prohibition on Acceptance of Brokered Deposits by Adequately Capitalized Insured Institutions; (2) Real Estate Lending Standards; (3) Management Official Interlocks.

DATES: Comments must be submitted on or before August 2, 2004.

ADDRESSES: Interested parties are invited to submit written comments to Leibella A. Unciano, Legal Division (202) 898-3738, Federal Deposit Insurance Corporation, 550 17th Street NW., Washington, DC 20429. Comments may be hand-delivered to the guard station at the rear of the 17th Street Building (located on F Street), on business days between 7 a.m. and 5 p.m.

Comments may also be submitted to the OMB desk officer for the FDIC: Joseph F. Lackey, Jr., Office of Information and Regulatory Affairs, Office of Management and Budget, New Executive Office Building, Washington, DC 20503.

FOR FURTHER INFORMATION CONTACT: Leibella A. Unciano, at the address identified above.

SUPPLEMENTARY INFORMATION:

Proposal to Renew the Following Currently Approved Collections of Information

1. Title: Application for Waiver of Prohibition on Acceptance of Brokered Deposits by Adequately Capitalized Insured Institutions.

OMB Number: 3064-0099.

Frequency of Response: On occasion.

Affected Public: Any depository institution seeking a waiver to the prohibition on the acceptance of brokered deposits.

Estimated Number of Respondents: 30.

Estimated Time per Response: 6 hours.

Total Annual Burden: 180 hours.

General Description of Collection: Section 29 of the Federal Deposit Insurance Act prohibits undercapitalized insured depository institutions from accepting, renewing, or rolling over any brokered deposits. Adequately capitalized institutions may do so with a waiver from the FDIC, while well-capitalized institutions may accept, renew, or roll over brokered deposits without restriction.

2. Title: Real Estate Lending Standards.

OMB Number: 3064-0112.

Frequency of Response: On occasion.

Affected Public: Any financial institution engaging in real estate lending.

Estimated Number of Respondents: 5,300.

Estimated Time per Response: 20 hours.

Total Annual Burden: 106,000 hours.

General Description of Collection: Institutions will use real estate lending policies to guide their lending operations in a manner that is consistent with safe and sound banking practices and appropriate to their size, nature and scope of their operations. These policies should address certain lending considerations, including loan-to-value limits, loan administration policies, portfolio diversification standards, and documentation, approval and reporting requirements.

3.Title: Management Official Interlocks.

OMB Number: 3064-0118.

Frequency of Response: On occasion.

Affected Public: Management officials of insured nonmember banks and their affiliates.

Estimated Number of Respondents: 2.

Estimated Time per Response: 4 hours.

Total Annual burden: 8 hours.

General Description of Collection: The collection is associated with the FDIC's Management Official Interlocks regulation, 12 CFR part 348, which implements the Depository Institution Management Interlocks Act (DIMIA). DIMIA generally prohibits bank management officials from serving simultaneously with two unaffiliated depository institutions or their holding companies but allows the FDIC to grant exemptions in appropriate circumstances.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of these collections. All comments will become a matter of public record.

Dated at Washington, DC, this 27th day of May, 2004.
Federal Deposit Insurance Corporation.
Robert E. Feldman,
Executive Secretary.

[FR Doc. 04-12504 Filed 6-2-04; 8:45 am]

BILLING CODE 6714-01-P